DEPARTMENT OF ENERGY

Federal Energy Regulatory Commission

[Docket No. CP00-390-000]

Columbia Gas Transmission Corporation; Notice of Application for Abandonment Authorization

June 23, 2000.

Take notice that on June 16, 2000, Columbia Gas Transmission Corporation (Columbia), 12801 Fair Lakes Parkway, Fairfax, Virginia 22030-0146, filed an abbreviated application pursuant to section 7(b) of the Natural Gas Act (NGA) requesting the issuance of an Order granting permission and approval to abandon by removal certain natural gas compression facilities located in Indiana County, Pennsylvania, and known as Columbia's Nolo, Kent and Homer City Compressor Stations, all as more fully set forth in the application which is on file with the Commission and open to public inspection. The application may be viewed on the web at www.ferc.fed.us/online/rims.htm. Call (202) 208-2222 for assistance.

Columbia states that the compressor stations consist of seven compressor units with a cumulative horsepower (hp) rating of 2,900; four dehydration systems; various compressor, office, and auxiliary buildings; 0.5 mile of 6 and 8-inch station piping; and various ancillary systems necessary to support the station operation, as more fully described in the application.

Columbia states that as result of Order Nos. 436 and 636, it has experienced a shift from primarily a merchant function to that of transporter. As a result, Columbia is taking steps to redefine its pipeline system. Columbia further states that the facilities proposed for abandonment are not an integral part of its transmission system and that the long term needs of its customers will be best served through abandonment of assets no longer required to support Columbia's role as a transporter.

Columbia does not propose the abandonment of service to any customer as a result of the facility abandonment, nor does it propose any construction in connection with the abandonment. All ground disturbance will be limited to those activities necessary to abandon the facilities.

Any person desiring to be heard or to protest this application should file a motion to intervene or protest with the Federal Energy Regulatory Commission, 888 First Street, N.E., Washington, D.C. 20426, in accordance with the requirements of the Commission's Rules of Practice and Procedure (18 CFR 385.214 or 385.211) and the Commission's Regulations under the Natural Gas Act (18 CFR 157.10). All such motions or protests must be filed on or before July 14, 2000. Protests will be considered by the Commission in determining the appropriate action to be taken, but will not serve to make protestants parties to the proceeding. Any person wishing to become a party to a proceeding must file a motion to intervene in accordance with the commission's Rules and Regulations. Copies of this application are on file with the Commission and are available for public inspection in the Public Reference Room.

Take further notice that, pursuant to the authority contained in and subject to the jurisdiction conferred upon the Commission by sections 7 and 15 of the Natural Gas Act and the Commission's Rules of Practice and Procedure, a hearing will be held without further notice before the Commission if no intervention or protest is filed within the time frame required herein, if the Commission on its own review of the matter finds that permission and approval for the proposed abandonment are required by the public convenience and necessity. If a motion for leave to intervene is timely filed, or if the Commission on its own motion believes that a formal hearing is required, further notice of such hearing will be duly given.

Under the procedure herein provided for, unless otherwise advised, it will be necessary for Applicant to appear or be represented at the hearing.

Linwood A. Watson, Jr.,
Acting Secretary.

[FR Doc. 00-16425 Filed 6-28-00; 8:45 am]

BILLING CODE 6717-01-M